DEPARTMENT OF COMMERCE

Submission for OMB Review; Comment Request: Request for the Appointment of a Technical Advisory Committee

The Department of Commerce will submit to the Office of Management and Budget (OMB) for clearance the following proposal for collection of information under the provisions of the Paperwork Reduction Act (44 U.S.C. Chapter 35).

Agency: Bureau of Industry and Security.

Title: Request for the Appointment of a Technical Advisory Committee.

Form Number(s): N/A.

OMB Control Number: 0694-0100.

Type of Review: Regular submission.

Estimated Total Annual Burden Hours: 5.

Estimated Number of Respondents: 1.

Estimated Time per Response: 5 hours.

Needs and Uses: This collection of information is required by the Export Administration Regulations and the Federal Advisory Committee Act. The Technical Advisory Committees (TACs) were established to advise and assist the U.S. Government on export control matters such as proposed revisions to export control lists, licensing procedures, assessments of the foreign availability of controlled products, and export control regulations. Under this collection, interested parties may submit a request to BIS to establish a new TAC. The Bureau of Industry and Security provides administrative support for these Committees.

Affected Public: Business or other for-profit organizations.

Frequency: On Occasion.

Respondent's Obligation: Voluntary.

This information collection request may be viewed at reginfo.gov, http://www.reginfo.gov/public/. Follow the instructions to view Department of Commerce collections currently under review by OMB.

Written comments and recommendations for the proposed information collection should be sent within 30 days of publication of this notice to OIRA_Submission@omb.eop.gov.

Sheleen Dumas,
Departmental Lead PRA Officer, Office of the Chief Information Officer.

[FR Doc. 2018-12056 Filed 6-4-18; 8:45 am]

BILLING CODE 3510-33-P